DEPARTMENT OF COMMERCE

National Oceanic and Atmospheric Administration

RIN 0648-XK74

General Advisory Committee to the U.S. Section to the Inter-American Tropical Tuna Commission; Meeting Announcement

AGENCY: National Marine Fisheries Service (NMFS), National Oceanic and Atmospheric Administration (NOAA), Commerce.

ACTION: Notice of public meeting.

SUMMARY: NMFS announces a meeting, via teleconference, of the General Advisory Committee to the U.S. Section to the Inter-American Tropical Tuna Commission (IATTC) in October 2008. Meeting topics are provided under the SUPPLEMENTARY INFORMATION section of this notice.

DATES: The meeting will be held on October 16, 2008, from 10 a.m. to 12 p.m. (or until business is concluded), Pacific time.

ADDRESSES: The meeting will be held via teleconference. Please notify Allison Routt prior to October 9, 2008, to receive dial in information and of your intent to participate in this teleconference.

FOR FURTHER INFORMATION CONTACT: Allison Routt at (562) 980-4019 or (562) 980-4030.

SUPPLEMENTARY INFORMATION: In accordance with the Tuna Conventions Act, as amended, the Department of State has appointed a General Advisory Committee to the U.S. Section to the IATTC. The U.S. Section consists of the four U.S. Commissioners to the IATTC and the representative of the Deputy Assistant Secretary of State for Oceans and Fisheries. The Advisory Committee supports the work of the U.S. Section in a solely advisory capacity with respect to U.S. participation in the work of the IATTC, with particular reference to the development of policies and negotiating positions pursued at meetings of the IATTC. NMFS, Southwest Region, administers the Advisory Committee in cooperation with the Department of State.

Meeting Topics

The General Advisory Committee will meet to receive and discuss information on: (1) 2008 IATTC activities, (2) upcoming meetings of the IATTC, including issues such as: conservation and management measures for yellowfin and bigeye tuna for 2009 and future years, measures to be taken in the absence of conservation and management measures, management of fishing capacity, and other issues, (4) IATTC cooperation with other regional fishery management organizations, (5) implementing legislation for the Antigua Convention, including the provisions for a General Advisory Committee, and (6) administrative matters pertaining to the General Advisory Committee.

Special Accommodations

The meeting is via teleconference. Requests for special accommodations, issues, and needs should be directed to Allison Routt at (562) 980-4019 or (562) 980-4030 by October 9, 2008.

Dated: September 25, 2008.
Emily H. Menashes,
Acting Director, Office of Sustainable Fisheries, National Marine Fisheries Service.

[FR Doc. E8-22963 Filed 9-29-08; 8:45 am]

BILLING CODE 3510-22-S